DEPARTMENT OF LABOR

Employment and Training Administration

Workforce Investment Act—Small Grassroots Organizations Connecting With the One-Stop Delivery System; Solicitation for Grant Applications (SGA), SGA/DFA-PY 06-11

AGENCY: Employment and Training Administration (ETA), Labor.

ACTION: Notice; amendment.

SUMMARY: The Employment and Training Administration published a document in the Federal Register of April 5, 2007, announcing the availability of funds and solicitation for grant applications for small grassroots organizations with the ability to connect to the local One-Stop Delivery System. The document is hereby amended.

FOR FURTHER INFORMATION CONTACT: Linda Forman, Grants Management Specialist, Telephone (202) 693-3416.

In the Federal Register of April 5, 2007, in FR Volume 72, Number 65:

—On page 16825, starting in the middle column, Part II (1) Award Information stated the following: The agency expects to award approximately 40 grants. The grant amount for each “grassroots” organization will range between $50,000-$75,000.

Amendment

The solicitation is amended to read: The agency expects to award approximately 50 grants. The grant amount for each “grassroots” organization will be up to $60,000.

Signed at Washington, DC, this 24th day of April, 2007.
Eric Luetkenhaus,
Grant Officer, Employment & Training Administration.

[FR Doc. E7-8258 Filed 4-30-07; 8:45 am]

BILLING CODE 4510-FN-P